DEPARTMENT OF TRANSPORTATION

Federal Highway Administration

Notice To Rescind Notice of Intent To Prepare an Environmental Impact Statement: Benton County, MO

AGENCY: Federal Highway Administration (FHWA), DOT.

ACTION: Rescind Notice of Intent to prepare an environmental impact statement.

SUMMARY: The FHWA is issuing this notice to advise the public that we are rescinding the Notice Of Intent (NOI) to prepare an environmental impact statement (EIS) for a proposed project in central Missouri. The NOI was published in the Federal Register on April 20, 1994. This rescission is based on a reduction in scope from the 1994 proposal to build a 17.5-mile, four-lane relocation of U.S. Route 65 in Benton County.

FOR FURTHER INFORMATION CONTACT: Peggy J. Casey, Environmental Projects Engineer, FHWA Division Office, 3220 West Edgewood, Suite H, Jefferson City, MO 65109; Telephone: (573) 638-2620 or Mr. Kevin Keith, Chief Engineer, Missouri Department of Transportation, P.O. Box 270, Jefferson City, MO 65102, Telephone: (573) 751-2803.

SUPPLEMENTARY INFORMATION: This project as now proposed involves widening approximately 15 miles of U.S. Route 65 in Benton County, Missouri, from two lanes to four lanes with consideration of relocation in the vicinity of Lincoln. We will also consider a two plus one improvement, which calls for two lanes with the addition of a passing lane, where needed. The proposed project begins south of the Missouri Route 52 South Junction and proceeds southward to the Missouri Route 7 North Junction at Warsaw.

(Catalog of Federal Domestic Assistance Program Number 20.205, Highway Planning and Construction. The regulations implementing Executive Order 12372 regarding intergovernmental consultation on Federal programs and activities apply to this program.)

Issued on: February 14, 2006.
Peggy J. Casey,
Environmental Projects Engineer, Jefferson City.

[FR Doc. 06-1775 Filed 2-24-06; 8:45 am]

BILLING CODE 4910-22-M